DEPARTMENT OF ENERGY

Federal Energy Regulatory Commission

Combined Notice of Filings

Take notice that the Commission has received the following Natural Gas Pipeline Rate and Refund Report filings:

Filings Instituting Proceedings

Docket Numbers: RP12-889-000.

Applicants: Gulf South Pipeline Company, LP.

Description: Remove Expired Contracts from Tariff to be effective 8/1/2012.

Filed Date: 7/30/12.

Accession Number: 20120730-5043.

Comments Due: 5 p.m. ET 8/13/12.

Docket Numbers: RP12-890-000.

Applicants: Gulf South Pipeline Company, LP.

Description: ONEOK 34951 to BG 40038 and 40040 Cap Rel Neg Rate Agmts to be effective 8/1/2012.

Filed Date: 7/30/12.

Accession Number: 20120730-5044.

Comments Due: 5 p.m. ET 8/13/12.

Docket Numbers: RP12-891-000.

Applicants: Gulf South Pipeline Company, LP.

Description: HK 37731 to Texla 40045 Cap Rel Neg Rate Agmt to be effective 8/1/2012.

Filed Date: 7/30/12.

Accession Number: 20120730-5045.

Comments Due: 5 p.m. ET 8/13/12.

Docket Numbers: RP12-892-000.

Applicants: Gulf Crossing Pipeline Company LLC.

Description: Antero 2 to Tenaska 580 Cap Rel Neg Rate Agmt to be effective 8/1/2012.

Filed Date: 7/30/12.

Accession Number: 20120730-5046.

Comments Due: 5 p.m. ET 8/13/12.

Docket Numbers: RP12-894-000.

Applicants: Trailblazer Pipeline Company LLC.

Description: 2012-07-30 NC Mieco (2), CIMA (2) to be effective 7/31/2012.

Filed Date: 7/30/12.

Accession Number: 20120730-5155.

Comments Due: 5 p.m. ET 8/13/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-765-001.

Applicants: Rockies Express Pipeline LLC.

Description: Audit Changes Compliance—Resv Charge Credits to be effective 8/29/2012.

Filed Date: 7/30/12.

Accession Number: 20120730-5149.

Comments Due: 5 p.m. ET 8/13/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: July 31, 2012.
Nathaniel J. Davis, Sr.,
Deputy Secretary.

[FR Doc. 2012-19099 Filed 8-3-12; 8:45 am]

BILLING CODE 6717-01-P